DEPARTMENT OF HOMELAND SECURITY

Notice of Availability for the Patient Decontamination in a Mass Chemical Exposure Incident: National Planning Guidance for Communities, Correction

AGENCY: Office of Health Affairs, DHS.

ACTION: Notice of Availability.

SUMMARY: The Office of Health Affairs published a document in the Federal Register of December 19, 2014, concerning the public release of a guidance document, Patient Decontamination in a Mass Chemical Exposure Incident: National Planning Guidance for Communities. The document was missing a URL directing readers to the electronic copy of the document.

FOR FURTHER INFORMATION CONTACT: Dr. Mark Kirk, Office of Health Affairs, telephone (202) 254-6729.

Correction

In the Federal Register of December 19, 2014, in FR Vol. 79, No. 244, on page 75826, in the third column, correct the Web site to read:

The document is available on the following Web sites: http://www.dhs.gov/office-health-affairs and http://www.phe.gov/Preparedness/responders/Pages/patientdecon.aspx

Dated: January 5, 2015.
Mark Kirk,
Director, Chemical Defense Program.

[FR Doc. 2015-00200 Filed 1-8-15; 8:45 am]

BILLING CODE 9110-9K-P